DEPARTMENT OF TRANSPORTATION

Federal Highway Administration

Tier 1 Environmental Impact Statement: East Baton Rouge, West Baton Rouge, Iberville, Ascension, and Livingston Parishes, LA

AGENCY: Federal Highway Administration (FHWA), DOT.

ACTION: Notice of intent amendment.

SUMMARY: The FHWA is issuing this notice to advise the public that the February 13, 2008 Notice of Intent for the subject Tier 1 Environmental Impact Statement is amended to add the Louisiana Department of Transportation and Development (DOTD) as a Joint Lead Agency.

FOR FURTHER INFORMATION CONTACT: Mr. Carl M. Highsmith, Project Delivery Team Leader, Federal Highway Administration, 5304 Flanders Drive, Suite A, Baton Rouge, Louisiana 70808, Telephone: (225) 757-7615, or Ms. Noel Ardoin, Environmental Engineer Administrator, Louisiana Department of Transportation and Development, Room 201AA, 1201 Capitol Access Road, Post Office Box 94245, Baton Rouge, Louisiana 70804-9245, Telephone: (225) 242-4501 or Mr. Bryan K. Harmon, City of Baton Rouge, Parish of East Baton Rouge, Department of Public Works, Engineering Division, Deputy Director/Chief Engineer, Room 409, Municipal Building, 300 North Boulevard, Post Office Box 1471, Baton Rouge, LA 70821, Telephone: (225) 389-3186. Project information can be found at the project Internet Web site at http://www.brloop.com.

SUPPLEMENTARY INFORMATION: The Louisiana Department of Transportation and Development agreed to be a Joint Lead Agency for the Baton Rouge Loop Tier 1 Environmental Impact Statement in September 2009.

(Catalog of Federal Domestic Assistance Program Number 20.205, Highway Research, Planning and Construction. The regulations implementing Executive Order 12372 regarding intergovernmental consultation of Federal programs and activities, apply to this program.)

Authority: 23 U.S.C., 315; 23 CFR 771.123.

Dated: October 6, 2009.
Charles W. Bolinger,
Division Administrator, FHWA, Louisiana Division.

[FR Doc. E9-26020 Filed 10-27-09; 8:45 am]

BILLING CODE P